COMMISSION ON CIVIL RIGHTS

Notice of Public Meetings of the Mississippi Advisory Committee

AGENCY: U.S. Commission on Civil Rights.

ACTION: Announcement of meeting.

SUMMARY: Notice is hereby given, pursuant to the provisions of the rules and regulations of the U.S. Commission on Civil Rights (Commission) and the Federal Advisory Committee Act that the Mississippi Advisory Committee (Committee) will hold a series of meetings via Webex on Tuesday, December 15, 2020; Wednesday, February 10, 2021, and Friday, February 12, 2021 at 12:00 p.m. Central Time for the purpose of gathering testimony on Civil Rights and Qualified Immunity in Mississippi.

DATES: The meetings will be held on:

• Tuesday, December 15, 2020, at 12:00 p.m. Central Time (PANEL I)

• Wednesday, February 10, 2021 at 12:00 p.m. Central Time (PANEL II)

• Friday, February 12, 2021, at 12:00 p.m. Central Time (PANEL III)

ADDRESSES:

For Panel I: Register online: https://civilrights.webex.com/civilrights/j.php?MTID=m9a4cf04c90b1e74b7f6f7fb1f02ca5fb.

Join by phone: 800-360-9505 USA Toll Free; Access code: 199 748 1310.

For Panel II: Register online: https://civilrights.webex.com/civilrights/j.php?MTID=ma400ed1aa76e1792f8f8a00b376df733.

Join by phone: 800-360-9505 USA Toll Free; Access code: 199 458 2688.

For Panel III: Register online: https://civilrights.webex.com/civilrights/j.php?MTID=m87f0e9ea9065ffddbf441ca499131579.

Join by phone: 800-360-9505 USA Toll Free; Access code: 199 383 0420.

FOR FURTHER INFORMATION CONTACT: Melissa Wojnaroski, DFO, at mwojnaroski@usccr.gov or (202) 618-4158.

SUPPLEMENTARY INFORMATION: Members of the public may join these meetings online or listen to this discussion through the above call in number. An open comment period will be provided to allow members of the public to make a statement as time allows. Callers can expect to incur regular charges for calls they initiate over wireless lines, according to their wireless plan. The Commission will not refund any incurred charges. Callers will incur no charge for calls they initiate over land-line connections to the toll-free telephone number. Individuals who are deaf, deafblind and hard of hearing may also follow the proceedings by first calling the Federal Relay Service at 1-800-877-8339 and providing the Service with the conference call number and conference ID number.

Members of the public are entitled to submit written comments; the comments must be received in the regional office within 30 days following the meeting. Written comments may be emailed to Corrine Sanders at csanders@usccr.gov. Persons who desire additional information may contact the Regional Programs Unit at (312) 353-8311.

Records generated from this meeting may be inspected and reproduced at the Regional Programs Unit Office, as they become available, both before and after the meeting. Records of the meeting will be available via www.facadatabase.gov under the Commission on Civil Rights, Mississippi Advisory Committee link. Persons interested in the work of this Committee are directed to the Commission's website, http://www.usccr.gov, or may contact the Regional Programs Unit at the above email or street address.

Agenda

I. Welcome & Roll Call

II. Panelists Comments: Qualified Immunity in Mississippi

III. Committee Q & A

IV. Public Comment

VI. Adjournment

Dated: November 19, 2020.
David Mussatt,
Supervisory Chief, Regional Programs Unit.

[FR Doc. 2020-26034 Filed 11-24-20; 8:45 am]

BILLING CODE P